DEPARTMENT OF JUSTICE

Drug Enforcement Administration

Manufacturer of Controlled Substances; Notice of Application

Pursuant to section 1301.33(a) of Title 21 of the Code of Federal Regulations (CFR), this is notice that on November 18, 2002, Novus Fine Chemicals, LLC, 611 Broad Street, Carlstadt, New Jersey 07072-1317, made application to the Drug Enforcement Administration (DEA) for registration as a bulk manufacturer of the basic class of Methylphenidate (1724), a Schedule II controlled substance.

The firm plans to manufacture bulk Methylphenidate to distribute to its customers for the manufacture of finished products.

Any other such applicant and any person who is presently registered with DEA to manufacture such a substance may file comments or objections to the issuance of the proposed registration.

Any such comments or objections may be addressed, in quintuplicate, to the Deputy Assistance Administrator, Office of Diversion Control, Drug Enforcement Administration, United States Department of Justice, Washington, DC 20537, Attention: DEA Federal Register Representative (CCD) and must be filed no later than September 12, 2003.

Laura M. Nagel,
Deputy Assistant Administrator, Office of Diversion Control, Drug Enforcement Administration.

[FR Doc. 03-17714 Filed 7-11-03; 8:45 am]

BILLING CODE 4410-09-M